NUCLEAR REGULATORY COMMISSION

[Docket No. 40-3392-MLA; ASLBP No. 11-910-01-MLA-BD01] [7590-01-P]

Honeywell International Inc.; Establishment of Atomic Safety And Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding: Honeywell International Inc. (Metropolis Works Uranium Conversion Facility).

This proceeding involves a Request for Hearing filed on behalf of Honeywell International Inc. (Honeywell) in response to the NRC Staff's letter of April 25, 2011, Subject: Response to Court Remand on Denial of Exemption Request from Title 10 of the Code of Federal Regulations part 30, Appendix C, Regarding Decommissioning Financial Assurance Requirements, Honeywell Metropolis Works. The Request for Hearing challenges the NRC Staff's decision in the April 25 letter denying Honeywell's request for a license amendment authorizing use of an alternate method for demonstrating decommissioning funding assurance for its Metropolis Works uranium conversion facility located in Metropolis, Illinois.

The Board is comprised of the following administrative judges:

Paul S. Ryerson, Chair, Atomic Safety and Licensing Board Panel, U.S. Nuclear Regulatory Commission, Washington, DC 20555-0001.

E. Roy Hawkens, Atomic Safety and Licensing Board Panel, U.S. Nuclear Regulatory Commission, Washington, DC 20555-0001.

Paul B. Abramson, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 6th day of July 2011.
E. Roy Hawkens,
Chief Administrative Judge, Atomic Safety and Licensing Board Panel.

[FR Doc. 2011-17646 Filed 7-12-11; 8:45 am]

BILLING CODE 7590-01-P